DEPARTMENT OF AGRICULTURE

Farm Service Agency

7 CFR Part 762

RIN 0560-AG46

Interest Assistance Program

AGENCY: Farm Service Agency, USDA.

ACTION: Proposed rule; correction and extension of comment period.

SUMMARY: This document corrects the e-mail address for submission of public comments on the proposed rule regarding the Farm Service Agency's (FSA's) Interest Assistance Program published June 22, 2005, and extends the comment period to ensure that all public comments are received by the Agency. The original comment period for the proposed rule closes on August 22, 2005, and FSA is extending it until September 6, 2005. Respondents who sent comments to the earlier e-mail address are encouraged to contact the person named below to find out if their comments were received and re-submit them to the e-mail address below if necessary.

DATES: The comment due date for the proposed rule published June 22, 2005 (70 FR 36055), is extended from August 22, 2005, to September 6, 2005.

FOR FURTHER INFORMATION CONTACT: Tracy L. Jones, Senior Loan Officer, Farm Service Agency; telephone: (202) 720-6771; facsimile: (202) 720-6797; E-mail: Tracy.Jones@wdc.usda.gov. Persons with disabilities who require alternative means for communication (Braille, large print, audio tape, etc.) should contact the USDA Target Center at (202) 720-2600 (voice and TDD). All comments and supporting documents on this rule may be viewed by contacting the information contact. All comments received, including names and addresses, will become a matter of public record.

SUPPLEMENTARY INFORMATION: (1) This document corrects the proposed rule regarding FSA's Interest Assistance Program published June 22, 2005 (70 FR 36055-36060). Due to a computer system upgrade in FSA, some e-mail addresses were changed and, while the original addresses still work in most cases, some e-mail may not be received by the correct person. Accordingly, in the proposed rule, in the first column, in the ADDRESSES section, the e-mail address shown, “Tracy_Jones@wdc.usda.gov” is corrected to read “Tracy.Jones@wdc.usda.gov.”

(2) As a result of the correction, this document also extends the comment period until September 6, 2005 in order to ensure that the public can submit timely comments.

Signed in Washington, DC, on August 5, 2005.
Thomas B. Hofeller,
Acting Administrator, Farm Service Agency.

[FR Doc. 05-15864 Filed 8-10-05; 8:45 am]

BILLING CODE 3410-05-P